DEPARTMENT OF THE INTERIOR

Bureau of Land Management

[LLUTC010000-L51010000-ER0000-LVRWJ10J4080; UTU-044897]

Notice of Intent To Prepare an Environmental Assessment for the Proposed Cameron to Milford—138 kV Transmission Line Project and Possible Amendment to the Cedar Beaver Garfield Antimony Resource Management Plan for the Cedar City Field Office, Cedar City, UT

AGENCY: Bureau of Land Management, Interior.

ACTION: Notice of Intent.

SUMMARY: In compliance with the National Environmental Policy Act of 1969, as amended (NEPA), and the Federal Land Policy and Management Act of 1976, as amended (FLPMA), the Bureau of Land Management (BLM) Cedar City Field Office, Cedar City, Utah, intends to prepare an Environmental Assessment (EA) and possible Resource Management Plan (RMP) amendment and by this notice is announcing the beginning of the scoping process to solicit public comments and identify issues.

DATES: This notice initiates the public scoping process for the EA and possible RMP amendment. Comments on issues may be submitted in writing until September 24, 2012. The date(s) and location(s) of any scoping meetings will be announced at least 15 days in advance through local media, newspapers and the BLM Web site at: https://www.ut.blm.gov/enbb/index.php. In order to be included in the EA, all comments must be received prior to the close of the scoping period or 15 days after the last public meeting, whichever is later.

ADDRESSES: You may submit comments related to the Cameron to Milford—138 kV Transmission Line Project by any of the following methods:

• Web site: https://www.ut.blm.gov/enbb/index.php.

• Email: kkunze@blm.gov.

• Fax: 435-865-3058.

• Mail: Bureau of Land Management, Cedar City Field Office, 176 East DL Sargent Drive, Cedar City, Utah 84721, ATTN: Karen McAdams-Kunze.

Documents pertinent to this proposal may be examined at the Cedar City Field Office.

FOR FURTHER INFORMATION CONTACT: For further information and/or to have your name added to our mailing list, contact Karen McAdams-Kunze, telephone 435-865-3073; Bureau of Land Management, Cedar City Field Office, 176 East DL Sargent Drive, Cedar City, Utah; email kkunze@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The applicant PacifiCorp, doing business as Rocky Mountain Power, has requested a right-of-way (ROW) authorization to construct, operate, maintain, and decommission a 138 kV single-circuit overhead transmission line on Federal lands. The project would provide an additional 27 megawatts of reliable electrical capacity by 2014 to resolve current system constraints and respond to anticipated load growth in western Beaver County, Utah. The proposed project would begin at the existing Cameron Substation near Beaver, Utah, and terminate at the existing Milford Substation near the town of Milford, Utah. The project area would span approximately 19 miles, about 12 of which would be on BLM-administered lands, depending on the route selected. Rocky Mountain Power has identified alternative routes between the two substations. These routes would affect Federal, State, and private lands. The requested ROW width on Federal lands is 60 feet except for a portion of one alternative route. The requested width for that portion is 100 feet where it passes over steep terrain. Rocky Mountain Power proposes to use predominately single wood pole structures, approximately 55 to 90 feet in height with average spans between poles of 350 to 500 feet. No new permanent roads would be constructed. Temporary spur routes approximately 12 feet wide and temporary workspace would be needed during construction for material storage, conductor-tensioning sites, and to accommodate vehicles and equipment.

Authorization of this proposal may require amending the Cedar Beaver Garfield Antimony RMP, approved in 1986, by changing approximately 594 acres of an existing 27,494-acre Visual Resource Management (VRM) Class II to Class III or IV. This would occur in the Mineral Mountains along the existing Pass Road, which is a Beaver County, Utah, recorded Class B Road. By this notice, the BLM is complying with requirements in 43 CFR 1610.2(c) to notify the public of potential amendments to land use plans, predicated on the finding of the EA. Should an RMP amendment be necessary, it will be based on the following preliminary planning criteria:

• The RMP amendment will focus only on VRM class designations;

• The RMP amendment will comply with NEPA, FLPMA, and other applicable laws, executive orders, regulations and policy;

• The RMP amendment will recognize valid existing rights;

• The BLM will use a collaborative and multi-jurisdictional approach, where possible to determine the desired future condition of the public lands;

• The BLM will consider the management prescriptions on adjoining lands to minimize inconsistent management; and

• Management prescriptions will focus on the relative values of resources and not necessarily the combination of uses that will give the greatest economic return or economic output.

The purpose of the public scoping process is to determine relevant issues and planning criteria that will influence the scope of the environmental analysis, including alternatives, and guide the process for developing the EA. At present, the BLM has identified the following preliminary issues: cultural resources; crucial deer, elk, greater sage-grouse and upland game habitat, migratory bird habitat; special status species; surface water quality; recreation; socioeconomics; soil erosion; riparian areas; forestry; vegetation management; wilderness character; and visual resources.

You may submit comments on issues and planning criteria in writing to the BLM at any public scoping meeting, or you may submit them to the BLM using one of the methods listed in the ADDRESSES section above. To be most helpful, comments should be submitted by the close of the 30-day scoping period or within 15 days after the last public meeting, whichever is later.

The BLM will use NEPA public participation requirements to assist the agency in satisfying the public involvement requirements under Section 106 of the National Historic Preservation Act (NHPA) (16 U.S.C. 470(f)) pursuant to 36 CFR 800.2(d)(3). The information about historic and cultural resources within the area potentially affected by the proposed project will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed project that the BLM is evaluating, are invited to participate in the scoping process and, if eligible, may request or be requested by the BLM to participate in the development of the environmental analysis as a cooperating agency.

Before including an address, phone number, email address, or other personal identifying information in your comment, be aware that your entire comment—including your personal identifying information—may be made publicly available at any time. While you can ask us to withhold personal identifying information from public review, we cannot guarantee that we will be able to do so.

Authority: 40 CFR 1501.7 and 43 CFR 1610.2.

Shelley J. Smith,
Acting Associate State Director.

[FR Doc. 2012-20892 Filed 8-23-12; 8:45 am]

BILLING CODE 4310-DQ-P